DEPARTMENT OF HEALTH AND HUMAN SERVICES

Health Resources and Services Administration

HRSA's Bureau of Health Professions Advanced Education Nursing Traineeship Program

AGENCY: Health Resources and Services Administration (HRSA), HHS.

ACTION: Notice.

SUMMARY: The Bureau of Health Professions (BHPr) is announcing a change to its Advanced Education Nursing Traineeship (AENT) program. Effective fiscal year (FY) 2014, AENT support for part-time students (trainees) will be limited to those students (trainees) who are enrolled within the last 12 months of study for their program. This change will apply to new part-time students (trainees) and will not affect part-time students (trainees) funded prior to FY 2014, who will continue to be supported throughout their advanced education primary care training. Support for full-time students (trainees) will continue without any changes. This change is being implemented to support part-time students (trainees) nearing graduation, in an effort to expeditiously meet the growing demand for primary care nurse practitioners and nurse midwives.

FOR FURTHER INFORMATION CONTACT: Joan Wasserman, DrPH, RN, Advanced Nursing Education Branch Chief, Division of Nursing, Bureau of Health Professions, Health Resources and Services Administration, 5600 Fishers Lane, Room 9-61, Rockville, MD 20857, by phone at (301) 443-5688; fax at (301) 443-0791; or email at JWasserman@HRSA.gov.

Dated: August 26, 2013.
Mary K. Wakefield,
Administrator.

[FR Doc. 2013-21343 Filed 8-30-13; 8:45 am]

BILLING CODE 4165-15-P